UNITED STATES PATENT AND TRADEMARK OFFICE

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Invention Promoters/Promotion Firms Complaints.

Form Number(s): PTO/SB/2048.

Agency Approval Number: 0651-0044.

Type of Request: Revision of a collection previously approved under an emergency clearance.

Burden: 50 hours annually.

Number of Respondents: 200 responses per year. The PTO expects to receive 100 complaints concerning invention promoters/promotion firms and 100 responses to such complaints.

Avg. Hours Per Response: The USPTO estimates that it takes an average of 15 minutes (.25 hours) to gather the information, complete the complaint, and submit it to the USPTO. The USPTO estimates that it will take an invention promoter an average of 15 minutes (.25 hours) to gather the information, complete the response, and submit it to the USPTO.

Needs and Uses: The Inventors' Rights Act of 1999 requires the USPTO to publish complaints filed by independent inventors against invention promoters/promotion firms and publish any replies to such complaints. The Inventors' Rights Act requires the USPTO to publish these complaints and replies, but it does not require the USPTO to enforce the Act, to investigate the complaints, or to participate in any legal proceedings against the invention promoters/promotion firms. The USPTO has developed a form that complainants may choose to use to submit their complaints against an invention promoter/promotion firm to the USPTO. Use of this form, PTO/SB/2048 Complaint Regarding Invention Promoter, is not mandatory; however, its use will ensure that all of the necessary information is provided, which in turn enables the USPTO to make the complaint publicly available. At this time, there is no associated form for responses to the complaints. In addition, this information collection enables the invention promoters/promotion firms to respond to such complaints. The USPTO uses the complaint form to ensure that all of the necessary information is provided so that the complaints can be made publicly available. The USPTO then forwards the complaints to the invention promoter/ promotion firm and makes sure that any responses to these complaints are also made publicly available.

Affected Public: Individuals or households, businesses or other for-profit, not-for-profit institutions, and farms.

Frequency: On occasion.

Respondent's Obligation: Voluntary.

OMB Desk Officer: David Rostker, (202) 395-3897.

Copies of the above information collection proposal can be obtained by calling or writing Thao P. Nguyen, Acting Records Officer, Office of Data Management, Data Administration Division, (703) 308-7397, USPTO, Suite 310, 2231 Crystal Drive, Washington, DC 20231.

Written comments and recommendations for the proposed information collection should be sent on or before August 7, 2000, to David Rostker, OMB Desk Officer, Room 10202, New Executive Office Building, Washington, D.C. 20503.

Dated: June 29, 2000.
Thao P. Nguyen,
Acting Records Officer, USPTO, Office of Data Management, Data Administration Division.

[FR Doc. 00-17029 Filed 7-5-00; 8:45 am]

BILLING CODE 3510-16-P